DEPARTMENT OF ENERGY

Federal Energy Regulatory Commission

[Project No. 2203-015]

Alabama Power Company: Notice Soliciting Scoping Comments

Take notice that the following hydroelectric application has been filed with the Commission and is available for public inspection.

a. Type of Application: New Major License.

b. Project No.: 2203-015.

c. Date filed: August 16, 2013.

d. Applicant: Alabama Power Company (Alabama Power).

e. Name of Project: Holt Hydroelectric Project.

f. Location: The project is located at the U.S. Army Corps of Engineers' existing Holt Lock and Dam on the Black Warrior River in Tuscaloosa County, Alabama and occupies 36.64 acres of Corps lands.

g. Filed Pursuant to: Federal Power Act 16 U.S.C. 791 (a)-825(r).

h. Applicant Contacts: Mr. Jim Heilbron, Senior Vice President and Senior Production Officer, Alabama Power Company, 600 North 18th Street, P.O. Box 2641, Birmingham, AL 35203-2206, (205) 257-1000.

i. FERC Contact: Jeanne Edwards at (202) 502-6181, or via email at jeanne.edwards@ferc.gov.

j. Deadline for filing scoping comments: 30 days from the issuance date of this notice.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2203-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Portions of the existing Holt Project facilities that are owned and operated by Alabama Power consist of: (1) A 130-foot-long concrete non-overflow dam; (2) a 110-foot long earth fill dam located between the non-overflow structure and the right abutment; (3) a powerhouse integral with the dam containing one turbine with an installed capacity of 46,944-kilowatts; (4) a 2.48-mile-long transmission line; and (5) Overlook Park, a project recreation site. The applicant estimates that the total average annual generation would be 153,604,600 kilowatt hours. All generated power is utilized within the applicant's electric utility system. Additionally, Alabama Power proposes correct the mapping of the project boundary from 46.59 acres to 50.08 acres. The change would affect privately owned lands, resulting in no land disturbing activities.

m. A copy of the application is available for review at the Commission in the Public Reference Room, or may be viewed on the Commission's Web site at http://www.ferc.gov, using the “eLibrary” link. Enter the docket number, excluding the last three digits in the docket number field, to access the document. For assistance, contact FERC Online Support. A copy is available for inspection and reproduction at the address in item h above.

You may register online at http://www.ferc.gov/docs-filing/esubscription.asp to be notified via email of new filings and issuances related to this or other pending projects. For assistance, contact FERC Online Support.

n. Scoping Process

The Commission staff intends to prepare an Environmental Assessment (EA) for the Holt Hydroelectric Project, in accordance with the National Environmental Policy Act. The EA will consider both site-specific and cumulative environmental impacts and reasonable alternatives to the proposed action.

Commission staff does not propose to conduct any on-site scoping meetings at this time. Instead, we are soliciting comments, recommendations, and information on the Scoping Document (SD) issued on July 23, 2014.

Copies of the SD outlining the subject areas to be addressed in the EA were distributed to the parties on the Commission's mailing list and the applicant's distribution list. Copies of the SD may be viewed on the web at http://www.ferc.gov, using the “eLibrary” link. Enter the docket number, excluding the last three digits in the docket number field, to access the document. For assistance, call 1-866-208-3676, or for TTY, (202) 502-8659.

Dated: July 23, 2014.
Kimberly D. Bose,
Secretary.

[FR Doc. 2014-18010 Filed 7-30-14; 8:45 am]

BILLING CODE 6717-01-P